DEPARTMENT OF VETERANS AFFAIRS

President's Task Force To Improve Health Care Delivery for Our Nation's Veterans; Notice of Meeting

The Department of Veterans Affairs (VA) gives notice under Public Law 92-463 that a meeting of the President's Task Force to Improve Health Care Delivery for Our Nation's Veterans is scheduled to take place on Wednesday, April 10, 2002, beginning at 8:30 a.m. and ending at 5:30 p.m. The meeting will be held in Salon A or B, the Four Seasons Hotel, 2400 Pennsylvania Avenue, NW., Washington, DC, and is open to the general public.

The purpose of the Task Force is to:

(a) Identify ways to improve benefits and services for Department of Veterans Affairs (VA) beneficiaries and for Department of Defense (DOD) military retirees who are also eligible for benefits from VA, through better coordination of the activities of the two departments;

(b) Review barriers and challenges that impede VA and DOD coordination, including budgeting processes, timely billing, cost accounting information technology, and reimbursement. Identify opportunities to improve such business practices to ensure quality and cost effective health care; and

(c) Identify opportunities for improved resource utilization through partnership between VA and DOD to maximize the use of resources and infrastructure, including: buildings, information technology and data sharing systems, procurement of supplies, equipment and services, and delivery of care.

As the Task Force work groups continue to obtain current and updated information and to validate and/or clarify that information, the work groups will make presentations on their related topics to the members. The work groups include benefit services, acquisition and procurement, facilities, information management and information technology, leadership and productivity, pharmaceuticals, and resource and budgeting process.

Interested parties can provide written comments to Mr. Dan Amon, Communications Director, President's Task Force to Improve Health Care Delivery to Our Nation's Veterans, 1401 Wilson Boulevard, 4th Floor, Arlington, Virginia, 22209.

By Direction of the Secretary.
Dated: March 27, 2002.
Nora E. Egan,
Committee Management Officer.

[FR Doc. 02-8121 Filed 4-3-02; 8:45 am]

BILLING CODE 8320-01-M